DEPARTMENT OF COMMERCE

Foreign-Trade Zones Board

[B-52-2025]

Foreign-Trade Zone (FTZ) 45, Notification of Proposed Production Activity; Nanoverse Technologies; (Semiconductor Production Equipment); Beaverton, Oregon

Nanoverse Technologies submitted a notification of proposed production activity to the FTZ Board (the Board) for its facility in Beaverton, Oregon within FTZ 45. The notification conforming to the requirements of the Board's regulations (15 CFR 400.22) was received on October 9, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: laser scribing tool; metrology tool; metrology/laser tool; laser scribing tool sub-assemblies; and, metrology tool sub-assemblies (duty-free).

The proposed foreign-status materials/components include: green and ultraviolet lasers (50, 80, and 100 watts); equipment front end modules; transfer robots; coat/clean systems; water-cooled temperature-controlled precision air processors (HEPA filtration); water-cooled thermo-chillers; peripheral cabinets; line scan cameras; frame grabbers; objective lenses (achromat, plan achromat, fluorite, and apochromat, with magnifications from 0.5x-100x); stainless steel fabricated brackets, mounting plates, spacers, substrates; cables and cable assemblies fitted with connectors, not used for telecommunications, under 1,000 volts (USB, RJ45 ethernet, coaxial, terminal, and circular connectors); unmounted lenses (plano convex, plano concave, cylindrical, and Fresnel); unmounted mirrors (concave, convex, spherical, parabolic, and elliptical mirrors); mounted mirrors for laser path direction; pellicle beam splitters and polarizers; granite slabs (8 inches thick); digital still image video cameras; resistance temperature detectors; aluminum fabricated mounting (plates, brackets, spacers); coax cable with LED green spotlight; printed circuit assemblies for semiconductor manufacturing equipment; lens tubes not containing optical elements but, mechanical parts designed to hold optics; solenoid valves; high precision flow regulators; mounted optical diffusers; precision positioning stages providing motion in X, Y and theta/rotational axis; laser scan heads (2 axis galvanometer for laser positioning); enterprise rack servers (high performance computing systems); servo drives used to control servo motors; power supply unit for galvo drives (input 115V AC, output ±40V DC); optical modulators; touch screen monitors; optical power meters that measure laser power; system on modules designed as a component for data processing machines; quick connect/disconnect couplings; wafer chuck; pneumatic actuators; motor steppers; and, pressure sensors (duty rate ranges from duty-free to 6.0%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is January 26, 2026.

A copy of the notification will be available for public inspection in the “Online FTZ Information System” section of the Board's website.

For further information, contact Christopher Wedderburn at Chris.Wedderburn@trade.gov.

Dated: December 11, 2025.
Juanita Chen,
Acting Executive Secretary.

[FR Doc. 2025-22986 Filed 12-15-25; 8:45 am]

BILLING CODE 3510-DS-P